DEPARTMENT OF LABOR

Employment and Training Administration

[TA-W-36,623]

Interplast Universal Industries, Lodi, New Jersey; Notice of Revised Determination on Reconsideration

On December 6, 1999, the Department issued an Affirmative Determination Regarding Application for Reconsideration applicable to workers of the subject firm. The petitioners presented information that warranted further examination of imports of articles competitive with the expanded vinyl produced by workers of Interplast Universal Industries. The notice was published in the Federal Register on December 23, 1999 (64 FR 72104).

The Department initially denied TAA to workers producing expanded vinyl at Interplast Universal Industries located in Lodi, New Jersey, based on the finding that the “contributed importantly” test of the worker group eligibility requirements of Section 222 of the Trade Act of 1974, as amended, was not met. The investigation revealed that the company did not import, nor where significant customer imports of expanded vinyl in the relevant time period. Some customers reported increased imports of finished articles produced with expanded vinyl. Imports of finished articles, however, cannot be considered like or directly competitive with the expanded vinyl produced by the Interplast Universal Industries workers.

The petitioners claim that the subject firm imported expanded vinyl from India. The petitioners further add that a foreign source is supplying expanded vinyl to former customers of Interplast Universal Industries.

New information obtained on reconsideration revealed that the subject did purchase indirect imports of expanded vinyl from foreign sources during the time period relevant to the investigation.

Conclusion

After careful review of the new facts obtained on reconsideration, it is concluded that increased imports of articles like or directly competitive with expanded vinyl produced by the subject firm contributed importantly to the decline in sales and to the total or partial separation of workers of the subject firm. In accordance with the provisions of the Trade Act of 1974. I make the following revised determination:

All workers of Interplast Universal Industries, Lodi, New Jersey, who became totally or partially separated from employment on or after July 19, 1998, are eligible to apply for adjustment assistance under Section 223 of the Trade Act of 1974.

Signed at Washington, DC, this 8th day of February, 2000.
Grant D. Beale,
Program Manager, Division of Trade Adjustment Assistance.

[FR Doc. 00-4127 Filed 2-18-00; 8:45 am]

BILLING CODE 4510-30-M